FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 1867F.

Name: Bratt International, Inc.

Address: 23 South Street, Baltimore, MD 21202.

Date Revoked: March 23, 2014.

Reason: Failed to maintain a valid bond.

License No.: 004213NF.

Name: IAN International, Inc.

Address: 7466 New Ridge Road, Suite 3, Hanover, MD 21076.

Date Revoked: March 28, 2014.

Reason: Failed to maintain valid bonds.

License No.: 012308F.

Name: Versatile International Corporation dba King Yang Shipping.

Address: 11100 Valley Blvd., Suite 110, El Monte, CA 91731.

Date Revoked: April 6, 2014.

Reason: Failed to maintain a valid bond.

License No.: 13580N.

Name: Z & W International, Inc.

Address: 8 Gunther Place, Bellmore, NY 11710.

Date Revoked: March 29, 2014.

Reason: Failed to maintain a valid bond.

License No.: 014700N.

Name: Allied Transport System (USA) Inc. dba Allied Transport System, Inc. dba Centurion Logistics Management.

Address: 15319 East Don Julian Road, City of Industry, CA 91745.

Date Revoked: April 11, 2014.

Reason: Failed to maintain a valid bond.

License No.: 017458NF.

Name: Central Global Express, Inc.

Address: 12225 Stephens Road, Warren, MI 48089.

Date Revoked: December 27, 2013.

Reason: Voluntary surrender of license.

License No.: 018891NF.

Name: Logistics Pan-America Corp.

Address: 177-25 Rockaway, Suite 216, Jamaica, NY 11434.

Date Revoked: March 30, 2014.

Reason: Failed to maintain a valid bonds.

License No.: 019882F.

Name: Euro Shippers, Inc.

Address: 7667 West 95th Street, Suite 308, Hickory Hills, IL 60457.

Date Revoked: March 27, 2014.

Reason: Failed to maintain a valid bond.

License No.: 020691NF.

Name: Diversified Global Logistics, Inc.

Address: 5375 Mineral Wells, Memphis, TN 38141.

Date Revoked: April 10, 2014.

Reason: Failed to maintain valid bonds.

License No.: 020847N.

Name: Associated Container Lines USA, LLC.

Address: 8440 Esters Blvd., Suite 130, Irving, TX 75063.

Date Revoked: March 31, 2014.

Reason: Voluntary surrender of license.

License No.: 021800F.

Name: Tradewinds Logistics, Inc.

Address: 2221 Edge Lake Drive, Suite 185, Charlotte, NC 28217.

Date Revoked: March 21, 2014.

Reason: Failed to maintain a valid bond.

License No.: 022106F.

Name: Brave Cargo, Inc.

Address: 8133 NW 68th Street, Miami, FL 33166.

Date Revoked: March 18, 2014.

Reason: Failed to maintain a valid bond.

License No.: 024269NF.

Name: Marcos Enterprises, Inc. dba Comprayenvia.net.

Address: 13326 Budworth Circle, Orlando, FL 32832.

Date Revoked: March 25, 2014.

Reason: Failed to maintain valid bonds.

License No.: 024314F.

Name: Lawrence Family Enterprises, Inc. dba A&A Transportation.

Address: 965 Piedmont Road, Suite 220, Marietta, GA 30066.

Date Revoked: April 4, 2014.

Reason: Failed to maintain a valid bond.

Sandra L. Kusumoto.
Director, Bureau of Certification and Licensing.

[FR Doc. 2014-11060 Filed 5-13-14; 8:45 am]

BILLING CODE 6730-01-P